DEPARTMENT OF LABOR

Occupational Safety and Health Administration

[Docket No. OSHA-2018-0005]

Whistleblower Stakeholder Meeting

AGENCY: Occupational Safety and Health Administration (OSHA), Labor.

ACTION: Notice of public meeting.

SUMMARY: The Occupational Safety and Health Administration (OSHA) is announcing a public meeting to solicit comments and suggestions from stakeholders on issues facing the agency in the administration of the whistleblower laws it enforces.

DATES: The public meeting will be held on May 12, 2020, from 1:00 p.m. to 3:00 p.m., ET. Persons interested in attending the meeting must register by April 28, 2020. In addition, comments relating to the “Scope of Meeting” section of this document must be submitted in written or electronic form by May 5, 2020.

ADDRESSES: The public meeting will be held in Room C5525, U.S. Department of Labor, 200 Constitution Avenue NW, Washington, DC 20210.

Written Comments: Submit written comments to the OSHA Docket Office, Docket No. OSHA-2018-0005, Room N-3653, U.S. Department of Labor, 200 Constitution Avenue NW, Washington, DC 20210; telephone (202) 693-2350. You may submit materials, including attachments, electronically at http://www.regulations.gov, which is the Federal eRulemaking portal. Follow the on-line instructions for submissions. All comments should be identified with Docket No. OSHA-2018-0005.

Registration to Attend and/or to Participate in the Meeting: If you wish to attend the public meeting, make an oral presentation at the meeting, or participate in the meeting via telephone, you must register using this link https://www.eventbrite.com/e/whistleblower-stakeholder-meeting-tickets-92898902117 by close of business on April 28, 2020. Participants may speak and hand out written materials, but there will not be an opportunity to give an electronic presentation. Actual times provided for presentation will depend on the number of requests, but no more than 10 minutes per participant. There is no fee to register for the public meeting. Registration on the day of the public meeting will be permitted on a space-available basis beginning at 12:00 p.m., ET. After reviewing the requests to present, each participant will be contacted prior to the meeting with the approximate time that the participant's presentation is scheduled to begin.

FOR FURTHER INFORMATION CONTACT:

For press inquiries: Mr. Frank Meilinger, Director, OSHA Office of Communications, U.S. Department of Labor; telephone: (202) 693-1999; email: meilinger.francis2@dol.gov.

For general information: Mr. Anthony Rosa, Acting Director, OSHA Directorate of Whistleblower Protection Programs, U.S. Department of Labor; telephone: (202) 693-2199; email: osha.dwpp@dol.gov.

SUPPLEMENTARY INFORMATION:

Scope of Meeting

OSHA is interested in obtaining information from the public on key issues facing the agency's whistleblower program. This meeting is the fifth in a series of meetings requesting public input on this program. The agency is seeking suggestions on how it can improve its program. Please note that the agency does not have the authority to change the regulatory language and requirements of the laws it enforces. In particular, the agency invites input on the following:

1. How can OSHA deliver better whistleblower customer service?

2. What kind of assistance can OSHA provide to help explain the agency's whistleblower laws to employees and employers?

3. Where should OSHA target whistleblower outreach efforts?

Request for Comments

Regardless of attendance at the public meeting, interested persons may submit written or electronic comments (see ADDRESSES). Submit a single copy of electronic comments or two paper copies of any mailed comments. To permit time for interested persons to submit data, information, or views on the issues in the “Scope of Meeting” section of this notice, submit comments by May 5, 2020, please include Docket No. OSHA-2018-0005. Comments received may be seen in the OSHA Docket Office, (see ADDRESSES ), between 10:00 a.m. and 3:00 p.m., ET, Monday through Friday.

Access to the Public Record

Electronic copies of this Federal Register notice are available at http://www.regulations.gov. This notice, as well as news releases and other relevant information, also are available on the Directorate of Whistleblower Protection Programs' web page at: http://www.whistleblowers.gov.

Authority and Signature

Loren Sweatt, Principal Deputy Assistant Secretary for Occupational Safety and Health, authorized the preparation of this notice under the authority granted by Secretary's Order 01-2012 (Jan. 18, 2012), 77 FR 3912 (Jan. 25, 2012).

Signed at Washington, DC, on March 9, 2020.
Loren Sweatt,
Principal Deputy Assistant Secretary of Labor for Occupational Safety and Health.

[FR Doc. 2020-05128 Filed 3-12-20; 8:45 am]

BILLING CODE 4510-26-P